DEPARTMENT OF THE TREASURY

Proposed Information Collection; Comment Request; Treasury Financial Empowerment Innovation Fund Evaluation of a Near-Peer Counseling Program for High School and College Students on Pursuing and Financing Their Higher Education

AGENCY: Departmental Offices, Department of the Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). The Treasury is soliciting comments concerning a proposed information collection under a Treasury Financial Empowerment Innovation Fund project to assess the effectiveness of financial decision-making components of near-peer counseling for high school and college students.

DATES: Written comments must be submitted on or before February 29, 2016 to be assure of consideration.

ADDRESSES: Comments regarding this information collection should be addressed to the Treasury Office of Consumer Policy contact listed below. All responses to this notice will be included in the request for OMB's approval. All comments will also become a matter of public record.

FOR FURTHER INFORMATION CONTACT: Requests for additional information or copies of the information collection instrument and instructions should be directed to James Gatz, Senior Policy Analyst, Office of Consumer Policy, Room 1426, Department of the Treasury, 1500 Pennsylvania Avenue NW., Washington, DC 20220, by telephone on 202-622-3946, or by email at James.Gatz@Treasury.gov.

SUPPLEMENTARY INFORMATION:

OMB Number: 1505—NEW.

Title: Information Collections for Evaluation of a Near-Peer Counseling Program for High School and College Students on Pursuing and Financing their Higher Education.

Abstract: The Department of the Treasury, Office of Consumer Policy, will use a combination of web-based information collection tools and in-person interviews to survey high school and college students who are participating in a near-peer counseling program that seeks to inform them about options for pursuing and financing their higher education. The data collected will be used to evaluate the effectiveness of the near-peer counseling program. The information collections are planned for 2016.

Type of Review: New information collection.

Affected Public: Individuals and households.

Respondent's Obligation: Voluntary. Web-based Information Collection.

Estimated Number of Respondents: Approximately 1,200-1,500 students.

Estimated Average Time per Respondents: 15 minutes per student.

Estimated Total Annual Burden Hours: Approximately 300-375 hours. Focus Groups and In-Person Interviews.

Estimated Number of Respondents: Approximately 75-150 students.

Estimated Average Time per Respondents: 30 minutes per student.

Estimated Total Annual Burden Hours: Approximately 37.5-50 hours.

Request for Comments: Comments are invited on: (a) Whether the proposed collection of information is necessary for the proper performance of the functions of the Office of Consumer Policy, including whether the information shall have practical utility; (b) the accuracy of the above estimate of the burden of the proposed collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of service to provide information

Dated: December 23, 2015.
Dawn D. Wolfgang,
Treasury PRA Clearance Officer.

[FR Doc. 2015-32754 Filed 12-28-15; 8:45 am]

BILLING CODE 4810-25-P